DEPARTMENT OF LABOR

Office of the Secretary

Submission for OMB Review: Comment Request

May 23, 2007.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling Ira Mills on 202-693-4122 (this is not a toll-free number) or E-Mail: Mills.Ira@dol.gov, or by accessing http://www.reginfo.gov/public/do/PRAMain.

Comments should be sent to Office of Information and Regulatory Affairs, Attn: OMB Desk Officer for U.S. Department of Labor/Bureau of Labor Statistic (BLS), Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Bureau of Labor Statistics.

Type of Review: Revisions for a currently approved collection.

Title: CPS Volunteer Supplement.

OMB Number: 1220-0176.

Frequency: Annually.

Affected Public: Individuals.

Type of Response: Reporting.

Number Of Respondents: 63,000.

Number of Annual Responses: 106,000.

Estimated Time per Response: 3 minutes.

Total Burden Hours: 5,300.

Total Annualized Capital/Startup Costs: 0.

Total Annual Costs: 0 (operating/maintaining systems or purchasing services.

Description: The purpose of this request for review is for the Bureau of Labor Statistics (BLS) to obtain clearance for the Volunteer Supplement to the Current Population Survey (CPS), scheduled to be conducted in September 2007. The CPS has been the principal source of the official Government statistics on employment and unemployment for over 60 years. Collection of labor force data through the CPS helps BLS meet its mandate as set forth in Title 29, United States Code, Sections 1 through 9.

As part of the CPS, supplement questions will survey individuals ages 15 and over from a nationally representative sample of approximately 60,000 U.S. households. The BLS is continuing this project at the request of the Corporation for National and Community Service.

The Volunteer Supplement provides information on the total number of individuals in the U.S. involved in unpaid volunteer activities, measures of the frequency or intensity with which individuals volunteer, types of organizations that facilitate volunteerism, activities in which volunteers participate, and the prevalence of volunteering more than 120 miles from home or abroad.

Because the Volunteer Supplement is part of the CPS, the same detailed demographic information collected in the CPS is available about respondents to the Supplement. Thus, comparisons of volunteer activities are possible across respondent characteristics including sex, race, age, and educational. It is intended that the Supplement will be conducted annually, if resources permit, in order to gauge changes in volunteerism.

Ira L. Mills,
Departmental Clearance Officer/Team Leader.

[FR Doc. E7-10289 Filed 5-29-07; 8:45 am]

BILLING CODE 4510-24-P